DEPARTMENT OF HEALTH AND HUMAN SERVICES

Centers for Medicare & Medicaid Services

[Document Identifier: CMS-10232 and CMS-R-211]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of currently approved collection; Title of Information Collection: State Plan Template to Implement Section 6062 of the Deficit Reduction Act; Form No.: CMS-10232 (OMB#: 0938-1045); Use: The Deficit Reduction Act (DRA) provides States with numerous flexibilities in operating their State Medicaid Programs. Section 6062 of the DRA (Opportunity for families of Disabled Children to Purchase Medicaid Coverage for Such Children) provides States the opportunity to provide Medicaid benefits to disabled children who would otherwise be ineligible because of family income that is above the State's highest Medicaid eligibility standards for children. States must establish a State Plan for medical assistance to implement this provision. To do this, State Medicaid Agencies will complete the template. CMS will review the information to determine if the State has met all the requirements of the DRA provision; Frequency: Once; Affected Public: State, Federal, or Tribal Governments; Number of Respondents: 56; Total Annual Responses: 10; Total Annual Hours: 60. (For policy questions regarding this collection contact Barbara Washington at 410-786-9964. For all other issues call 410-786-1326.)

2. Type of Information Collection Request: Revision of currently approved collection; Title of Information Collection: Model Application Template and Instructions for State Child Health Plan Under Title XXI of the Social Security Act, State Children's Health Insurance Program; Form No.: CMS-R-211 (OMB#: 0938-0707); Use: The information will be used to assess State plan performance and health outcomes and to evaluate the amount of substitute private coverage and the effect of subsidies on access to coverage; Frequency: Yearly, occasionally; Affected Public: State, Federal, or Tribal Governments; Number of Respondents: 40; Total Annual Responses: 40; Total Annual Hours: 3,200. (For policy questions regarding this collection contact Nancy Goetschius at 410-786-0707. For all other issues call 410-786-1326.)

To obtain copies of the supporting statement and any related forms for the proposed paperwork collections referenced above, access CMS' Web site at http://www.cms.hhs.gov/PaperworkReductionActof1995, or e-mail your request, including your address, phone number, OMB number, and CMS document identifier, to Paperwork@cms.hhs.gov, or call the Reports Clearance Office at 410-786-1326.

In commenting on the proposed information collections please reference the document identifier or OMB control number. To be assured consideration, comments and recommendations must be submitted in one of the following ways by May 9, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: February 28, 2011.
Michelle Shortt,
Director, Regulations Development Group, Office of Strategic Operations and Regulatory Affairs.

[FR Doc. 2011-5365 Filed 3-4-11; 4:15 pm]

BILLING CODE 4120-01-P